NATIONAL LABOR RELATIONS BOARD

Order Delegating Authority to the General Counsel; Before Members Wilma B. Liebman, William B. Cowen, and Michael J. Bartlett

November 19, 2002.

The Board is faced with the prospect that it may for a temporary period have fewer than three Members of its statutorily prescribed full complement of five Members. The Board recognizes that it has a continuing responsibility to fulfill its statutory obligations in the most effective and efficient manner possible. To assure that the Agency will be able to meet its obligations, the Board has decided to temporarily delegate to the General Counsel full authority to certify the results of any secret ballot election conducted under the National Emergency provisions of the Labor Management Relations Act, sections 206-210, 29 U.S.C. 176-180.¹ This delegation shall be effective during any time when the Board has fewer than three Members and is made under the authority granted to the Board under sections 3, 4, 6, and 10 of the National Labor Relations Act.

¹ On December 14, 2001, the Board previously delegated to the General Counsel, on the same basis, full authority on all court litigation matters that would otherwise require Board authorization, effective during any time when the Board has fewer than three Members. See 66 FR 65998 (December 21, 2001).

Accordingly, the Board delegates to the General Counsel full and final authority and responsibility on behalf of the Board to certify to the Attorney General the results of any secret ballot elections held among employees on the question of whether they wish to accept the final offer of settlement made by their employer pursuant to section 209(b) of the Labor Management Relations Act, 29 U.S.C. 179(b). This delegation shall cease to be effective whenever the Board has at least three Members.

This delegation relates to the internal management of the National Labor Relations Board and is therefore, pursuant to 5 U.S.C. 553, exempt from the notice and comment requirements of the Administrative Procedure Act. Further, public notice and comment is impractical because of the immediate need for Board action. The public interest requires that this delegation take effect immediately.

All existing delegations of authority to the General Counsel and to staff in effect prior to the date of this order remain in full force and effect, including the December 14, 2001, delegation regarding court litigation authority and the April 1, 1955, delegation by the Board to the General Counsel of the authority and responsibility to conduct secret ballots pursuant to section 209(b) of the Labor Management Relations Act, 29 U.S.C. 179(b). For the reasons stated above, the Board finds good cause to make this order effective immediately in accordance with 5 U.S.C. 553(d).

By direction of the Board.
Dated in Washington, DC, November 19, 2002.
Lester A. Heltzer,
Acting Executive Secretary, National Labor Relations Board.

[FR Doc. 02-29917 Filed 11-22-02; 8:45 am]

BILLING CODE 7545-01-P